ENVIRONMENTAL PROTECTION AGENCY

40 CFR Part 52

[EPA-R04-OAR-2017-0105; FRL-9968-92-Region 4]

Air Plan Approval; Florida; Permitting Revisions

AGENCY: Environmental Protection Agency (EPA).

ACTION: Final rule.

SUMMARY: The Environmental Protection Agency (EPA) is finalizing approval of portions of five State Implementation Plan (SIP) revisions submitted by the State of Florida, Department of Environmental Protection (FDEP), through the Florida Division of Air Resource Management, on June 23, 1999, July 1, 2011, December 12, 2011, February 27, 2013, and February 1, 2017. Florida's SIP revisions recodify, clarify, and reorganize the State's non-title V air permitting and compliance assurance program regulations consistent with flexibility provided under the Clean Air Act (CAA or Act) and EPA's rules which address new source preconstruction permitting. EPA is finalizing approval of Florida's SIP revisions on the basis that they are consistent with the CAA and EPA's requirements for permitting air emission sources.

DATES: This rule will be effective November 6, 2017.

ADDRESSES: EPA has established a docket for this action under Docket Identification No. EPA-R04-OAR-2017-0105. All documents in the docket are listed on the www.regulations.gov Web site. Although listed in the index, some information is not publicly available, i.e., Confidential Business Information or other information whose disclosure is restricted by statute. Certain other material, such as copyrighted material, is not placed on the Internet and will be publicly available only in hard copy form. Publicly available docket materials are available either electronically through www.regulations.gov or in hard copy at the Air Regulatory Management Section, Air Planning and Implementation Branch, Air, Pesticides and Toxics Management Division, U.S. Environmental Protection Agency, Region 4, 61 Forsyth Street SW., Atlanta, Georgia 30303-8960. EPA requests that if at all possible, you contact the person listed in the FOR FURTHER INFORMATION CONTACT section to schedule your inspection. The Regional Office's official hours of business are Monday through Friday 8:30 a.m. to 4:30 p.m., excluding Federal holidays.

FOR FURTHER INFORMATION CONTACT: Michele Notarianni, Air Regulatory Management Section, Air Planning and Implementation Branch, Air, Pesticides and Toxics Management Division, U.S. Environmental Protection Agency, Region 4, 61 Forsyth Street SW., Atlanta, Georgia 30303-8960. Ms. Notarianni can be reached by phone at (404) 562-9031 and via electronic mail at notarianni.michele@epa.gov.

SUPPLEMENTARY INFORMATION:

I. Background

FDEP submitted to EPA for adoption into the Florida SIP five revisions, three of which were submitted on June 23, 1999, July 1, 2011, and February 27, 2013, as part of the State's efforts to clarify and streamline Florida's non-title V air permitting and compliance assurance program and to address EPA's minor source preconstruction requirements under 40 CFR 51.160-51.164. In addition, on December 12, 2011, FDEP submitted a SIP revision to add a definition of “North American Industry Classification System,” or “NAICS,” to the Florida SIP. On February 1, 2017, FDEP submitted a SIP revision to address requirements for emissions monitoring at stationary sources. The 1999 SIP submission includes amendments to 16 rule sections in the Florida Administrative Code (F.A.C.) that were adopted by the State between 1997 and 1999 to clarify and streamline FDEP's permitting process. The 2011 SIP submission includes clarifying and corrective amendments to 11 F.A.C. rule sections affecting FDEP's permitting regulations that were adopted by the State between 1997 and 2010. In its 2013 SIP submission, FDEP updates the 1999 and 2011 SIP submissions by either resubmitting or withdrawing 12 of the 16 F.A.C. rule sections originally included in those submittals, and providing updated versions of the remaining four rule sections for incorporation into the Florida SIP.

In a proposed rulemaking published on August 10, 2017 (82 FR 37379), EPA proposed to approve specified portions of the five Florida SIP revisions on June 23, 1999, July 1, 2011, December 12, 2011, February 27, 2013, and February 1, 2017. The details of Florida's submissions and the rationale for EPA's actions are explained in the proposed rulemaking. Comments on the proposed rulemaking were due on or before September 11, 2017. EPA received no adverse comments on the proposed action. Accordingly, in this action, EPA is finalizing action regarding the relevant regulations (or portions thereof) from these five SIP submissions.

II. Incorporation by Reference

In this rule, EPA is finalizing regulatory text that includes incorporation by reference. In accordance with requirements of 1 CFR 51.5, EPA is finalizing the incorporation by reference of Florida Chapters 62-210.200 “Definitions,” which was state effective 3/28/12; 62-210.310 “Air General Permits,” state effective 6/29/11; 62-210.350 “Public Notice and Comment,” state effective 10/12/08; 62-296.100 “Purpose and Scope,” state effective 10/6/08; 62-296.405 “Fossil Fuel Steam Generators with More Than 250 Million Btu Per Hour Heat Input,” state effective 3/2/99; 62-296.406 “Fossil Fuel Steam Generators with Less Than 250 Million Btu Per Hour Heat Input, New and Existing Emissions Units,” state effective 3/2/99; 62-296.412 “Dry Cleaning Facilities,” state effective 3/11/10; 62-296.414 “Concrete Batching Plants,” state effective 1/10/07; 62-296.418 “Bulk Gasoline Plants,” state effective 3/11/10; 62-296.500 “Reasonably Available Control Technology (RACT)—Volatile Organic Compounds (VOC) and Nitrogen Oxides (NOX) Emitting Facilities,” state effective 3/11/10; 62-296.508 “Petroleum Liquid Storage,” state effective 10/6/08; 62-297.310 “General Emissions Test Requirements,” state effective 3/9/15; and 62-297.450 “EPA VOC Capture Efficiency Test Procedures,” state effective 3/2/99. EPA has made, and will continue to make, these materials generally available through www.regulations.gov and/or at the EPA Region 4 Office (please contact the person identified in the “For Further Information Contact” section of this preamble for more information). Therefore, these materials have been approved by EPA for inclusion in the State implementation plan, have been incorporated by reference by EPA into that plan, are fully federally enforceable under sections 110 and 113 of the CAA as of the effective date of the final rulemaking of EPA's approval, and will be incorporated by reference by the Director of the Federal Register in the next update to the SIP compilation.¹

¹ 62 FR 27968 (May 22, 1997).

III. Final Action

EPA is finalizing approval of portions of the five Florida SIP revisions submitted to EPA on June 23, 1999, July 1, 2011, December 12, 2011, February 27, 2013, and February 1, 2017, on the basis that they are consistent with the CAA and EPA's requirements for permitting air emission sources.

IV. Statutory and Executive Order Reviews

Under the CAA, the Administrator is required to approve a SIP submission that complies with the provisions of the Act and applicable federal regulations. See 42 U.S.C. 7410(k); 40 CFR 52.02(a). Thus, in reviewing SIP submissions, EPA's role is to approve state choices, provided that they meet the criteria of the Act. This action merely approves state law as meeting federal requirements and does not impose additional requirements beyond those imposed by state law. For that reason, these actions:

• Are not a significant regulatory action subject to review by the Office of Management and Budget under Executive Orders 12866 (58 FR 51735, October 4, 1993) and 13563 (76 FR 3821, January 21, 2011);

• do not impose an information collection burden under the provisions of the Paperwork Reduction Act (44 U.S.C. 3501 et seq.);

• are certified as not having a significant economic impact on a substantial number of small entities under the Regulatory Flexibility Act (5 U.S.C. 601 et seq.);

• do not contain any unfunded mandate or significantly or uniquely affect small governments, as described in the Unfunded Mandates Reform Act of 1995 (Pub. L. 104-4);

• do not have Federalism implications as specified in Executive Order 13132 (64 FR 43255, August 10, 1999);

• are not an economically significant regulatory action based on health or safety risks subject to Executive Order 13045 (62 FR 19885, April 23, 1997);

• are not a significant regulatory action subject to Executive Order 13211 (66 FR 28355, May 22, 2001);

• are not subject to requirements of Section 12(d) of the National Technology Transfer and Advancement Act of 1995 (15 U.S.C. 272 note) because application of those requirements would be inconsistent with the CAA and

• do not provide EPA with the discretionary authority to address, as appropriate, disproportionate human health or environmental effects, using practicable and legally permissible methods, under Executive Order 12898 (59 FR 7629, February 16, 1994).

The SIP is not approved to apply on any Indian reservation land or in any other area where EPA or an Indian tribe has demonstrated that a tribe has jurisdiction. In those areas of Indian country, the rule does not have tribal implications as specified by Executive Order 13175 (65 FR 67249, November 9, 2000), nor will it impose substantial direct costs on tribal governments or preempt tribal law.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the CAA, petitions for judicial review of this action must be filed in the United States Court of Appeals for the appropriate circuit by December 5, 2017. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2)).

List of Subjects in 40 CFR Part 52

Environmental protection, Air pollution control, Incorporation by reference, Intergovernmental relations, Nitrogen oxides, Particulate matter, Reporting and recordkeeping requirements, Sulfur dioxide, Volatile organic compounds.

Dated: September 22, 2017.
Onis “Trey” Glenn, III,
Regional Administrator, Region 4.

40 CFR part 52 is amended as follows:

PART 52—APPROVAL AND PROMULGATION OF IMPLEMENTATION PLANS

1. The authority citation for part 52 continues to read as follows:

Authority: 42 U.S.C. 7401 et seq.

Subpart K—Florida

2. Section 52.520(c) is amended:

a. Under the heading “Chapter 62-210 Stationary Sources—General Requirements” by revising the entries for “62-210.200”, “62-210.310” and “62-210.350”;

b. Under the heading “Chapter 62-210 Stationary Sources—General Requirements” by removing the entry for “62-210.920”;

c. Under the heading “Chapter 62-296 Stationary Sources—Emission Standards” by revising the entries for “62-296.100”, “62-296.405”, “62-296.406”, “62-296.412”, “62-296.414”, “62-296.418”, “62-296.500” and “62-296.508”, and

d. Under the heading “Chapter 62-297 Stationary Sources—Emissions Monitoring” by revising the entries for “62-297.310” and “62-297.450”.

The revisions read as follows:

§ 52.520 Identification of plan.

* * * * *

(c) * * *

EPA-Approved Florida Regulations
State citation (section) | Title/subject | State effective date | EPA approval date | Explanation
* * * * * * *
Chapter 62-210 Stationary Sources—General Requirements
62-210.200 | Definitions | 3/28/12 | 10/6/17, [Insert Federal Register citation] | Selected definitions are approved into the SIP.
* * * * * * *
62-210.310 | Air General Permits | 6/29/11 | 10/6/17, [Insert Federal Register citation] |
62-210.350 | Public Notice and Comment | 10/12/08 | 10/6/17, [Insert Federal Register citation] | Excludes revisions state effective February 11, 1999, which added 62-210.350(1)(c) and 62-210.350(4)(a)2, and revised 62-210.350(4)(b).
* * * * * * *
Chapter 62-296 Stationary Sources—Emission Standards
62-296.100 | Purpose and Scope | 10/6/08 | 10/6/17, [Insert Federal Register citation] |
* * * * * * *
62-296.405 | Fossil Fuel Steam Generators with More Than 250 Million Btu Per Hour Heat Input | 3/2/99 | 10/6/17, [Insert Federal Register citation] |
62-296.406 | Fossil Fuel Steam Generators with Less Than 250 Million Btu Per Hour Heat Input, New and Existing Emissions Units | 3/2/99 | 10/6/17, [Insert Federal Register citation] |
* * * * * * *
62-296.412 | Dry Cleaning Facilities | 3/11/10 | 10/6/17, [Insert Federal Register citation] |
62-296.414 | Concrete Batching Plants | 1/10/07 | 10/6/17, [Insert Federal Register citation] |
* * * * * * *
62-296.418 | Bulk Gasoline Plants | 3/11/10 | 10/6/17, [Insert Federal Register citation] |
* * * * * * *
62-296.500 | Reasonably Available Control Technology (RACT)—Volatile Organic Compounds (VOC) and Nitrogen Oxides (NOX) Emitting Facilities | 3/11/10 | 10/6/17, [Insert Federal Register citation] |
* * * * * * *
62-296.508 | Petroleum Liquid Storage | 10/6/08 | 10/6/17, [Insert Federal Register citation] | Amendments effective 10/6/08
* * * * * * *
Chapter 62-297 Stationary Sources—Emissions Monitoring
62-297.310 | General Emissions Test Requirements | 3/9/15 | 10/6/17, [Insert Federal Register citation] |
* * * * * * *
62-297.450 | EPA VOC Capture Efficiency Test Procedures | 3/2/99 | 10/6/17, [Insert Federal Register citation] |
* * * * * * *

* * * * *

[FR Doc. 2017-21504 Filed 10-5-17; 8:45 am]

BILLING CODE 6560-50-P